NATIONAL AERONAUTICS AND SPACE ADMINISTRATION

[Notice (05-002)]

NASA Search for Earth-Like Planets Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Search for Earth-Like Planets Strategic Roadmap Committee.

DATES: Tuesday, February 15, 2005, 8 a.m. to 5 p.m., Wednesday, February 16, 2005, 8 a.m. to 5 p.m., Mountain Standard Time.

ADDRESSES: Westward Look Hotel, 245 E. Ina Road, Tucson, AZ 85704.

FOR FURTHER INFORMATION CONTACT: Dr. Eric Smith, Science Mission Directorate, National Aeronautics and Space Administration, Washington, DC 20546, (202) 358-2439.

SUPPLEMENTARY INFORMATION: The meeting will be open to the public up to the capacity of the room. Attendees will be requested to sign a register.

The agenda for the meeting includes the following topics:

—Overview of strategic roadmap process and products.

—Relationship to capabilities roadmaps.

—Legacy roadmap.

—Key science questions and future missions.

—Roadmap plan, next steps, and assignments.

It is imperative that the meeting be held on this date to accommodate the scheduling priorities of the key participants.

Dated: January 7, 2005.
P. Diane Rausch,
Advisory Committee Management Officer, National Aeronautics and Space Administration.

[FR Doc. 05-763 Filed 1-13-05; 8:45 am]

BILLING CODE 7510-13-P